DEPARTMENT OF HEALTH AND HUMAN SERVICES

Administration for Children and Families

[Program Announcement No. ACF/ACYF/HS-2001-11]

Fiscal Year 2001 Discretionary Announcement for a Center on the Social and Emotional Foundations for Early Learning; Availability of Funds and Request for Applications

AGENCY: Administration on Children, Youth and Families (ACYF), ACF, DHHS.

ACTION: Announcement of the availability of funds and request for applications for a Center on the Social and Emotional Foundations for Early Learning.

SUMMARY: The Administration for Children and Families (ACF), Administration on Children, Youth and Families (ACYF) announces the availability of funds for a Center on the Social and Emotional Foundations for Early Learning. This Center will improve the capacity of Head Start and Child Care programs to promote the social and emotional development of the preschool age children they serve.

Statutory Authority

The Child Care and Development Block Grant Act as amended, 42 U.S.C. 9858 et seq.

CFDA 93.647

The Head Start Act, as amended, 42 U.S.C. 9801 et seq.

CFDA: 93.600

DATES: The closing time and date for receipt of applications is 5 p.m. (Eastern Time Zone) July 13, 2001. Applications received after 5 p.m. on the deadline date will be classified as late.

Note: The full announcement, including all the necessary forms can be downloaded from the Head Start Web Site at http://www.acf.dhhs.gov/programs/hsb, and/or the Child Care Bureau Web Site at http://www.acf.dhhs.gov/programs/ccb.

ADDRESSES: Mail applications to: ACYF Operations Center, 1815 N. Fort Myer Drive, Suite 300, Arlington, Virginia 22209.

Hand Delivered, Courier or Overnight Delivery applications are accepted during the normal working hours of 8 a.m. to 5 p.m., Monday through Friday, on or prior to the established closing date.

All packages should be clearly labeled as follows:

Application for Center on the Social and Emotional Foundations for Early Learning.

FOR FURTHER INFORMATION CONTACT: The ACYF Operations Center at 1-800-351-2293 (ACYF) is available to answer questions concerning application requirements and to refer you to the appropriate contact person in ACYF for programmatic questions. You may also e-mail your questions tot he ACYF Operations Center at: ehs@lcgnet.com

In order to determine the number of expert reviewers that will be necessary, if you are going to submit an application, you must send a post card or e-mail with the following information: the name, address, telephone and fax number, e-mail address of the project director, and the name of the university or non-profit institution at least four weeks prior to the submission deadline date to: ACYF Operations Center, 1815 N. Fort Myer Drive,Suite 300, Arlington, Virginia 22209, (1-800) 351-2293, E-mail: ehs@lcgnet.com.

SUPPLEMENTARY INFORMATION: A: Eligible Applicants: Universities and non-profit organizations with a recognized record of national leadership and service and current capabilities in this area of expertise. To adequately address the scope of topics and experiences this project requires, an application may be comprised of a consortium of organizations.

B. Project Duration: The announcement is soliciting applications for a project period of up to five years. Awards, on a competitive basis, will be for the first one-year budget period. Applications for continuation of cooperative agreements funded under these awards beyond the one-year period, but within the established project period, will be entertained in subsequent years on a non-competitive basis, subject to availability of funds, satisfactory progress of the grantee and a determination that continued funding would be in the best interest of the Government.

C. Federal Share of Project Cost: The Federal share of project costs shall not exceed $1,000,000 per year. $600,000 of this amount will be from Head Start funds and $400,000 will be from Child Care and Development Block Grant funds.

D. Matching Requirement: There is no matching requirement.

E. Anticipated Number of Projects to be Funded: It is anticipated that one project will be funded.

Criteria

Reviewers will consider the following factors when assigning points.

1. Results or Benefits Expected (Maximum of 10 Points)

The extent to which the applicant:

• clearly states the objectives and their relation to the expected benefits of the project.

• explains why chosen objectives are appropriate for Head Start and Child Care program efforts to improve social and emotional outcomes for young children, given current knowledge on effective practices.

• explains how the results and benefits expected are reasonable given the resources available for this project.

2. Approach (maximum of 50 Points)

The extent to which the applicant's approach:

• adequately describes and responds to key issues outlined in the background section above;

• represents a cost effective strategy to improve Head Start and Child Care program practices to promote positive social and emotional outcomes for children;

• demonstrates a thorough knowledge and understanding of the Head Start Program Performance Standards and quality child care program practices;

• demonstrates thorough knowledge of evidence-based approaches to improving social and emotional outcomes and address mental health and behavioral concerns for preschool-age children:

• demonstrates appropriate strategies for communication and ongoing coordination with the Head Start and Child Care training and technical assistance providers; and,

• describes specific strategies for how the project will promote local program's adopting and implementing practices.

3. Staff and Position Date (Maximum of 30 Points)

The extent to which the key staff and the organization possess the experience and expertise necessary to plan and implement a project of this type and scope, including:

• planning and disseminating training and technical assistance resources addressing issues of early childhood social and emotional development and mental health services;

• working with programs serving diverse cultures, languages and ethnicity and with programs serving low income families with young children;

• analyzing and preparing information for national dissemination to early childhood programs on issues of social and emotional development and mental health;

• designing, developing, and delivering coordinated technical assistance as part of a national network;

• experience with early childhood service settings, collaborating with mental health, child care and school system partners, and working with Head Start program staff and parents;

• key staff will devote adequate time to ensure a high level of professional input and attention;

• staff have experience designing and delivering information and T/TA for audiences of diverse cultures, languages and ethnicity and experience working with programs serving low income families with young children;

• staff have the skills and experiences needed to implement an approach covering the broad scope of issues required by the comprehensiveness of the Head Start model; and

• staff have experience and skills in reviewing and adapting information on social and emotional development and mental health to communicate effectively with this project's intended audiences.

Budget and Budget Justification (Maximum of 10 Points)

The extent to which the applicant's proposed costs are reasonable in view of the planning and activities to be carried out and the anticipated outcomes.

Required Notification of the State Single Point of Contact

This program is covered under Executive Order 12372, “Intergovernmental Review of Federal Programs,” and 45 CFR Part 100, “Intergovernmental Review of Department of Health and Human Services Programs and Activities.” Under the Order, States may design their own processes for reviewing and commenting on proposed Federal assistance under covered programs.

All States and territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, and Palau have elected to participate in the Executive Order process and have established Single Points of Contact (SPOCs). Applicants from these jurisdictions need not take action regarding Executive Order 12372.

Applications for projects to be administered by Federally recognized Indian Tribes are also exempt from the requirements of Executive Order 12372. Otherwise, applicants should contact their SPOC as soon as possible to alert them to the prospective application and to receive any necessary instructions. Applicants must submit any required material to the SPOC as early as possible so that the program office can obtain and review SPOC comments as part of the award process. It is imperative that the applicant submit all required materials, if any, to the SPOC and indicate the date of this submittal (or date of contact if no submittal is required) on the Standard Form 424, item 16a.

Under 45 CFR 100.8(a)(2), a SPOC has 60 days from the application deadline to comment on proposed new or competing continuation awards. SPOCs are encouraged to eliminate the submission of routine endorsements as official recommendations.

Additionally, SPOCs are requested to clearly differentiate between mere advisory comments and those official State process recommendations which may trigger the “accommodate or explain” rule.

When comments are submitted directly to the ACF, they should be addressed to: William Wilson, Head Start Bureau, Grants Officer, 330 C Street SW., Room 2220, Washington, DC 20447. Attn: Center on the Social and Emotional Foundations for Early Learning.

A list of the Single Points of Contact for each State and Territory can be found on the following web site: http://http://www.whitehouse.gov/omb/grants/spoc.html.

(Catalog of Federal Domestic Program Number 93.600, Project Head Start and Number 93.647, Child Care and Development Block Grant)

Dated: May 14, 2001.
James A. Harrell,
Acting Commissioner, Administration on Children, Youth and Families.

[FR Doc. 01-12498 Filed 5-17-01; 8:45 am]

BILLING CODE 4184-01-M